DEPARTMENT OF EDUCATION

Free Application for Federal Student Aid (FAFSA®) Information To Be Verified for the 2019-2020 Award Year

Correction

In notice document 2018-06278 beginning on page 13266 in the issue of Wednesday, March 28, 2018, make the following correction:

On page 13266 the table heading “LTCH QRP QUALITY MEASURES UNDER CONSIDERATION FOR FUTURE YEARS” should not have appeared.

[FR Doc. C1-2018-06278 Filed 3-30-18; 8:45 am]

BILLING CODE 1301-00-D